DEPARTMENT OF THE INTERIOR

Bureau of Reclamation

Pajaro Valley Water Management Agency Revised Basin Management Plan Project Santa Cruz, Monterey, and San Benito Counties, California

AGENCY: Bureau of Reclamation, Interior.

ACTION: Notice of correction for public meeting.

SUMMARY: Pursuant to Section 102(2)(C) of the National Environmental Policy Act (NEPA), the Bureau of Reclamation (Reclamation) has prepared a draft environmental impact statement (DEIS) for the Pajaro Valley Water Management Agency (PVWMA) Revised Basin Management Plan Project. The original notice was published in the Federal Register on September 25, 2003, (68 FR 55412) and erroneously characterized the forum scheduled for October 29, 2003, as a public hearing. This notice of correction is submitted to clarify that this meeting is not a public hearing. The meeting will be an open forum and the public is invited. The place and time for the public meeting have not changed and are indicated below.

DATES: Submit written comments on the DEIS on or before November 21, 2003 to Lynne Silva, Reclamation, at the below address.

A public meeting will be held to receive comments from interested parties, organizations, and individuals on the environmental impacts of the proposal. The public meeting will be held on October 29, 2003, at 7 p.m. at the address below.

ADDRESSES: The public meeting will be held at the Watsonville Senior Center, 114 East 5th Street, Watsonville, CA 95076.

Written comments on the DEIS should be addressed to Ms. Lynne Silva, Reclamation, at the below address.

Copies of the DEIS may be requested from Reclamation's South-Central California Area Office or from PVWMA's office at the following addresses:

• Bureau of Reclamation, South-Central California Area Office, 1243 N Street, Fresno, CA 93721-1813.

• Pajaro Valley Water Management Agency, 36 Brennan Street, Watsonville, CA 95076.

FOR FURTHER INFORMATION CONTACT: Ms. Lynne Silva, Bureau of Reclamation, South-Central California Area Office, telephone (559) 487-5807; or Mr. Charles McNiesh, Pajaro Valley Water Management Agency, (831) 722-9292.

SUPPLEMENTARY INFORMATION: At the meeting, PVWMA staff will make a brief presentation to describe the proposed project, its purpose and need, alternatives, and scenarios for construction and operation. The public may comment on environmental issues addressed in the DEIS. If necessary, due to large attendance, comments may be limited to 5 minutes per speaker. Written comments will also be accepted.

Reclamation practice is to make comments, including names and home addresses of respondents, available for public review. Individual respondents may request that we withhold their home address from public disclosure, which we will honor to the extent allowable by law. There also may be circumstances in which we would withhold a respondent's identity from public disclosure, as allowable by law. If you wish us to withhold your name and/or address, you must state this prominently at the beginning of your comment. We will make all submissions from organizations or businesses, and from individuals identifying themselves as representatives or officials of organizations or businesses, available for public disclosure in their entirety.

Dated: October 20, 2003.
Frank Michny,
Regional Environmental Officer, Mid-Pacific Region.

[FR Doc. 03-26982 Filed 10-24-03; 8:45 am]

BILLING CODE 4310-MN-P